DEPARTMENT OF HOMELAND SECURITY

Federal Emergency Management Agency

Agency Information Collection Activities: Proposed Collection; Comment Request

AGENCY: Federal Emergency Management Agency, Emergency Preparedness and Response Directorate, Homeland Security.

ACTION: Notice and request for comments.

SUMMARY: The Federal Emergency Management Agency, as part of its continuing effort to reduce paperwork and respondent burden, invites the general public and other Federal agencies to take this opportunity to comment on proposed new information collections. In accordance with the Paperwork Reduction Act of 1995 (44 U.S.C. 3506(c)(2)(A)), this notice seeks comments concerning the use of the Mapping Needs Update Support System (MNUSS) Data Worksheet to collect data on flood hazard mapping needs.

SUPPLEMENTARY INFORMATION: Public Law 103-325, The Riegle Community Development and Regulatory Improvement Act of 1994, Title V—National Flood Insurance Reform, section 575, Updating of Flood Maps (also known as section 575 of the National Flood Insurance Reform Act (FNIRA) of 1994), mandates that at least once every five years, the Federal Emergency Management Agency (FEMA) will assess the need to revise and update all floodplain areas and flood risk zones identified, delineated, or established under section 1360 of the National Flood Insurance Act of 1968.

Collection of Information

Title: National Flood Insurance Program—Mapping Needs Update Support System (MNUSS) Data Worksheet.

Type of Information Collection: Existing collection in use without an OMB control number.

OMB Number: 1660-New.

Abstract: To fulfill the mandate specified in section 575 of the NFIRA, FEMA established the Mapping Needs Assessment process and the MNUSS database in order to effectively identify and document data regarding community flood hazard mapping needs. MNUSS is designed to store mapping needs at the community level. The current version of MNUSS is an interactive, web-enabled password protected database. In order to facilitate the identification and collection of communities' current flood hazard mapping needs for input into MNUSS, FEMA developed the MNUSS Data Worksheet.

Flood hazard mapping needs information enables FEMA to be more responsive to ongoing changes affecting flood hazard areas that occur in communities participating in the NFIP. The changes include, but are not limited to, new corporate limit boundaries, changes in the road network, and changes in flood hazard areas, which affect communities' flood risks. The information is also used in providing justification for FEMA when requesting funding for flood map updates and is used along with other information to prioritize the flood hazard mapping needs of all mapped communities participating in the NFIP to assist in the allocation of annual funds for flood hazard map updates.

Affected Public: State, Local, and Tribal Governments.

Number of Respondents: 1,800.

Frequency of Response: Once every five years.

Hour Burden Per Response: 4.5.

Estimated Total Annual Burden Hours: 8,400.

Comments

Written comments are solicited to (a) evaluate whether the proposed data collection is necessary for the proper performance of the agency, including whether the information shall have practical utility; (b) evaluate the accuracy of the agency's estimate of the burden of the proposed collection of information, including the validity of the methodology and assumptions used; (c) enhance the quality, utility, and clarity of the information to be collected; and (d) minimize the burden of the collection of information on those who are to respond, including through the use of appropriate automated, electronic, mechanical, or other technological collection techniques or other forms of information technology, e.g., permitting electronic submission of responses. Comments should be received within 60 days of the date of this notice.

ADDRESSES: Interested persons should submit written comments to Muriel B. Anderson, Chief, Records Management Branch, Information Resources Management Division, Information Technology Services Directorate, Federal Emergency Management Agency, Emergency Preparedness and Response Directorate, Department of Homeland Security, 500 C Street, SW., Room 316, Washington, DC 20472.

FOR FURTHER INFORMATION CONTACT: Contact Cynthia Croxdale, Mitigation Division, Federal Emergency Management Agency, Emergency Preparedness and Response Directorate, at (202) 646-3458 for additional information. You may contact Ms. Anderson for copies of the proposed collection of information at e-mail address: InformationCollections@fema.gov.

Dated: March 26, 2003.
Vernon Adler,
Acting Division Director, Information Resources Management Division, Information Technology Services Directorate.

[FR Doc. 03-7794 Filed 4-1-03; 8:45 am]

BILLING CODE 6718-01-P